DEPARTMENT OF COMMERCE

International Trade Administration

[A-489-822]

Welded Line Pipe From the Republic of Turkey: Rescission of Antidumping Duty Administrative Review; 2017-2018

AGENCY: Enforcement and Compliance, International Trade Administration, Department of Commerce.

SUMMARY: The Department of Commerce (Commerce) is rescinding the administrative review of the antidumping duty order on welded line pipe from the Republic of Turkey (Turkey) for the period December 1, 2017, through November 30, 2018.

DATES: Applicable June 28, 2019.

FOR FURTHER INFORMATION CONTACT: Alice Maldonado or David Crespo, AD/CVD Operations, Office II, Enforcement and Compliance, International Trade Administration, U.S. Department of Commerce, 1401 Constitution Avenue NW, Washington, DC 20230; telephone: (202) 482-4682 or (202) 482-3693, respectively.

Background

On December 3, 2018, Commerce published in the Federal Register a notice of “Opportunity to Request Administrative Review” of the antidumping duty order on welded line pipe from Turkey for the period December 1, 2017, through November 30, 2018.¹ In December 2018, Commerce received a timely request, in accordance with section 751(a) of the Tariff Act of 1930, as amended (the Act), to conduct an administrative review of this antidumping duty order from California Steel Industries, TMK IPSCO, Welspun Tubular LLC USA, and Maverick Tube Corporation, (collectively, the petitioners).² Based upon this request, on March 14, 2019, in accordance with section 751(a) of the Act, Commerce published in the Federal Register a notice of initiation listing 19 companies for which the petitioners requested a review.³

¹ See Antidumping or Countervailing Duty Order, Finding, or Suspended Investigation; Opportunity to Request Administrative Review, 83 FR 62293 (December 3, 2018).

² See Petitioners' Letter, “Welded Line Pipe from the Republic of Turkey: Request for Administrative Review,” dated December 28, 2018.

³ See Initiation of Antidumping and Countervailing Duty Administrative Reviews, 84 FR 9297 (March 14, 2019).

On May 23, 2019, the petitioners withdrew their request for an administrative review.⁴

⁴ See Petitioners' Letter, “Welded Line Pipe from the Republic of Turkey: Withdrawal of Request for Administrative Review,” dated May 23, 2019.

Rescission of Review

Pursuant to 19 CFR 351.213(d)(1), Commerce will rescind an administrative review, in whole or in part, if a party who requested the review withdraws the request within 90 days of the date of publication of notice of initiation of the requested review. The aforementioned withdrawal request was timely submitted, and no other interested party requested an administrative review of any company. Therefore, we are rescinding the administrative review of the antidumping duty order on welded line pipe from Turkey covering the period December 1, 2017, through November 30, 2018.

Assessment

Commerce will instruct U.S. Customs and Border Protection (CBP) to assess antidumping duties on all appropriate entries. Antidumping duties shall be assessed at rates equal to the cash deposit of estimated antidumping duties required at the time of entry, or withdrawal from warehouse, for consumption, in accordance with 19 CFR 351.212(c)(1)(i). Commerce intends to issue appropriate assessment instructions to CBP 15 days after publication of this notice in the Federal Register.

Notification to Importers

This notice serves as a reminder to importers of their responsibility under 19 CFR 351.402(f)(2) to file a certificate regarding the reimbursement of antidumping and/or countervailing duties prior to liquidation of the relevant entries during this review period. Failure to comply with this requirement could result in Commerce's presumption that reimbursement of antidumping and/or countervailing duties occurred and the subsequent assessment of doubled antidumping duties.

Notification Regarding Administrative Protective Orders

This notice also serves as a reminder to parties subject to administrative protective order (APO) of their responsibility concerning the return or destruction of proprietary information disclosed under APO in accordance with 19 CFR 351.305. Timely written notification of the return/destruction of APO materials or conversion to judicial protective order is hereby requested. Failure to comply with the regulations and terms of an APO is a violation which is subject to sanction.

This notice is issued and published in accordance with section 751 of the Act and 19 CFR 351.213(d)(4).

Dated: June 24, 2019.
James Maeder,
Acting Deputy Assistant Secretary for Antidumping and Countervailing Duty Operations.

[FR Doc. 2019-13860 Filed 6-27-19; 8:45 am]

BILLING CODE 3510-DS-P